SECURITIES AND EXCHANGE COMMISSION

[File No. 500-1]

In the Matter of Andover Apparel Group, Inc., Applied Computer Technology, Inc., Country World Casinos, Inc., Digital Transmission Systems, Inc., EWRX Internet Systems, Inc., Go Online Networks Corp., Integrated Communication Networks, Inc., Keystone Energy Services, Inc., Microbest, Inc., Midway Airlines Corp., Mobilemedia Corp., Neometrix Technology Group, Inc., Photran Corp., Scottsdale Technologies, Inc., Sienna Broadcasting Corp., Triton Network Systems, Inc., and Western Pacific Airlines, Inc.; Order of Suspension of Trading

July 26, 2006.

It appears to the Securities and Exchange Commission that there is a lack of current and accurate information concerning the securities of Andover Apparel Group, Inc. because it has not filed any periodic reports since the period ended November 30, 1998.

It appears to the Securities and Exchange Commission that there is a lack of current and accurate information concerning the securities of Applied Computer Technology, Inc. (n/k/a Amigula, Inc.) because it has not filed any periodic reports since the period ended June 30, 1998.

It appears to the Securities and Exchange Commission that there is a lack of current and accurate information concerning the securities of Country World Casinos, Inc. because it has not filed any periodic reports since the period ended March 31, 2001.

It appears to the Securities and Exchange Commission that there is a lack of current and accurate information concerning the securities of Digital Transmission Systems, Inc. because it has not filed any periodic reports since the period ended March 31, 2002.

It appears to the Securities and Exchange Commission that there is a lack of current and accurate information concerning the securities of EWRX Internet Systems, Inc. (n/k/a iMusic International, Inc.) because it has not filed any periodic reports since the period ended September 30, 2000.

It appears to the Securities and Exchange Commission that there is a lack of current and accurate information concerning the securities of Go Online Networks Corp. because it has not filed any periodic reports since the period ended September 30, 2004.

It appears to the Securities and Exchange Commission that there is a lack of current and accurate information concerning the securities of Integrated Communication Networks, Inc. because it has not filed any periodic reports since the period ended September 30, 2000.

It appears to the Securities and Exchange Commission that there is a lack of current and accurate information concerning the securities of Keystone Energy Services, Inc. because it has not filed any periodic reports since December 3, 1999.

It appears to the Securities and Exchange Commission that there is a lack of current and accurate information concerning the securities of Microbest, Inc. because it has not filed any periodic reports since the period ended September 30, 2002.

It appears to the Securities and Exchange Commission that there is a lack of current and accurate information concerning the securities of Midway Airlines Corp. because it has not filed any periodic reports since the period ended June 30, 2001.

It appears to the Securities and Exchange Commission that there is a lack of current and accurate information concerning the securities of Mobilemedia Corp. because it has not filed any periodic reports since the period ended September 30, 1996.

It appears to the Securities and Exchange Commission that there is a lack of current and accurate information concerning the securities of Neometrix Technology Group, Inc. because it has not filed any periodic reports since the period ended July 31, 2004.

It appears to the Securities and Exchange Commission that there is a lack of current and accurate information concerning the securities of Photran Corp. because it has not filed any periodic reports since the period ended September 30, 1998.

It appears to the Securities and Exchange Commission that there is a lack of current and accurate information concerning the securities of Scottsdale Technologies, Inc. because it has not filed any periodic reports since December 11, 1997.

It appears to the Securities and Exchange Commission that there is a lack of current and accurate information concerning the securities of Sienna Broadcasting Corp. (n/k/a Contemporary Solutions, Inc.) because it has not filed any periodic reports since September 30, 2002.

It appears to the Securities and Exchange Commission that there is a lack of current and accurate information concerning the securities of Triton Network Systems, Inc. because it has not filed any periodic reports since the period ended March 31, 2002.

It appears to the Securities and Exchange Commission that there is a lack of current and accurate information concerning the securities of Western Pacific Airlines, Inc. because it has not filed any periodic reports since the period ended September 30, 1997.

The Commission is of the opinion that the public interest and the protection of investors require a suspension of trading in the securities of the above-listed companies.

Therefore, it is ordered, pursuant to Section 12(k) of the Securities Exchange Act of 1934, that trading in the above-listed companies, including trading in the debt securities of Country World Casinos, Inc., Midway Airlines Corp., and Mobilemedia Corp., is suspended for the period from 9:30 a.m. EDT on July 26, 2006, through 11:59 p.m. EDT on August 8, 2006.

By the Commission.
Jill M. Peterson,
Assistant Secretary.

[FR Doc. 06-6573 Filed 7-26-06; 11:29 am]

BILLING CODE 8010-01-P